DEPARTMENT OF TRANSPORTATION

Federal Aviation Administration

Commercial Space Transportation Advisory Committee Working Group—Meeting Notice

AGENCY: Federal Aviation Administration (FAA), DOT.

ACTION: Notice of Commercial Space Transportation Advisory Committee Risk Management Working Group meeting.

SUMMARY: Pursuant to section 10(a)(2) of the Federal Advisory Committee Act (Pub. L. 92-463, 5 U.S.C. App. 2), and 5 U.S.C. 552b (c), notice is hereby given of a meeting of the Risk Management Working Group of the Commercial Space Transportation Advisory Committee (COMSTAC). The meeting agenda will include a briefing by a representative from The Aerospace Corporation on the issue of indemnification for commercial launch activities, and will take place on Monday, March 20, 2006, from 10 a.m. until 5 p.m. at FAA Headquarters, 800 Independence Avenue SW., Washington, DC 20591.

FOR FURTHER INFORMATION CONTACT: Brenda Parker (AST-100), FAA Office of Commercial Space Transportation (AST), 800 Independence Avenue SW., Room 331, Washington, DC 20591, telephone (202) 267-3674; e-mail brenda.parker@faa.gov.

Issued in Washington, DC, February 27, 2006.
Patricia Grace Smith,
Associate Administrator for Commercial Space Transportation.

[FR Doc. 06-2001 Filed 3-2-06; 8:45 am]

BILLING CODE 4910-13-P